DEPARTMENT OF DEFENSE

Department of the Navy

Notice of Intent To Grant Exclusive Patent License; Austin AI, LLC

AGENCY: Department of the Navy, DOD.

ACTION: Notice.

SUMMARY: The Department of the Navy hereby gives notice of its intent to grant to Austin AI, LLC, a revocable, nonassignable, exclusive license to practice in the fields of (1) Environmental Soil Characterization, e.g. for the analysis of contaminated soils, sediments or sludge for the presence of heavy metals; (2) for Mineral Exploration, including use in exploratory, process and recovery mining and mineralogy specifically including sub-surface soil characterization for mineral exploration and three dimensional profiling/analysis of tailings to determine the potential content of reprocessable metals; and (3) for use of Energy Dispersive X-ray Fluorescence (EDXRF) for Liquid Media Monitoring for (a) the petroleum and petrochemical industries specifically including in-tank monitoring of sulfur in oils, e.g. for grading of diesel fuels by sulfur content or for determination of sulfur levels during fuel blending and for a probe for analysis of lead in waste oil tanks, underground tanks of refueling facilities, storage tanks at refineries, diesel long-haul truck tanks, (b) for the wood treatment industry for use in or on tank monitors for storage, mixing or treatment tanks for analysis of copper, chromium, and/or arsenic, and (c) in the environmental testing/monitoring industry in the United States and certain foreign countries, the Government-owned invention described in U.S. Patent No. 6,097,785 entitled “Cone Penetrometer Utilizing an X-Ray Fluorescence Metals Sensor”, Navy Case No. 77,638.

DATES: Anyone wishing to object to the grant of this license must file written objections along with supporting evidence, if any, not later than February 11, 2004.

ADDRESSES: Written objections are to be filed with the Naval Research Laboratory, Code 1004, 4555 Overlook Avenue, SW., Washington, DC 20375-5320.

FOR FURTHER INFORMATION CONTACT: Ms. Jane F. Kuhl,Technology Transfer Office, NRL Code 1004, 4555 Overlook Avenue SW., Washington, DC 20375-5320, telephone (202) 767-7230. Due to U.S. Postal delays, please fax (202) 404-7920, E-Mail: kuhl@nrl.navy.mil or use courier delivery to expedite response.

(Authority: 35 U.S.C. 207, 37 CFR part 404)

Dated: January 20, 2004.
J.T. Baltimore,
Lieutenant Commander, Judge Advocate General's Corps, U.S. Navy, Alternate Federal Register Liaison Officer.

[FR Doc. 04-1657 Filed 1-26-04; 8:45 am]

BILLING CODE 3810-FF-P